DEPARTMENT OF THE INTERIOR

National Park Service

[NPS-WASO-NAGPRA-13658; PPWOCRADN0-PCU00RP14.R50000]

Notice of Intent To Repatriate Cultural Item: Rochester Museum & Science Center, Rochester, NY

AGENCY: National Park Service, Interior.

ACTION: Notice.

SUMMARY: The Rochester Museum & Science Center, in consultation with the appropriate Indian tribes or Native Hawaiian organizations, has determined that the cultural item listed in this notice meets the definition of a sacred object and an object of cultural patrimony. Lineal descendants or representatives of any Indian tribe or Native Hawaiian organization not identified in this notice that wish to claim this cultural item should submit a written request to the Rochester Museum & Science Center. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the Rochester Museum & Science Center at the address in this notice by September 16, 2013.

ADDRESSES: George McIntosh, Rochester Museum & Science Center, 657 East Ave., Rochester, NY 14607, telephone (585) 271-4552 x 306, email george_mcintosh@rmsc.org.

SUPPLEMENTARY INFORMATION: Notice is here given in accordance with the Native American Graves Protection and Repatriation Act (NAGPRA), 25 U.S.C. 3005, of the intent to repatriate a cultural item under the control of the Rochester Museum & Science Center, Rochester, NY, that meets the definition of a sacred object and an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

The one sacred object and object of cultural patrimony is a Chilkat blanket (27.92.1/AE 580). Rochester Museum & Science Center catalog records show that on January 1, 1927, the Rochester Museum & Science Center (then Rochester Museum of Arts and Sciences) purchased the Chilkat blanket from John G. Worth of New York City, NY. The records indicate that the Chilkat blanket is from Alaska but contain no additional provenience information.

Based on consultation with the Central Council of the Tlingit & Haida Indian Tribes, the Rochester Museum & Science Center reasonably believes this cultural item is culturally affiliated with the Tlingit. Furthermore, the museum was also informed during consultation that the object is considered to be both a sacred object and an object of cultural patrimony.

Determinations Made by the Rochester Museum & Science Center

Officials of the Rochester Museum & Science Center have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object/object of cultural patrimony and the Central Council of the Tlingit & Haida Indian Tribes.

Additional Requestors and Disposition

Lineal descendants or representatives of any Indian tribe or Native Hawaiian organization not identified in this notice that wish to claim these cultural items should submit a written request with information in support of the claim to George McIntosh, Rochester Museum & Science Center, 657 East Ave., Rochester, NY 14607, telephone (585) 271-4552 x 306, email george_mcintosh@rmsc.org, by September 16, 2013. After that date, if no additional claimants have come forward, transfer of control of the sacred object/object of cultural patrimony to the Central Council of the Tlingit & Haida Indian Tribes may proceed.

The Rochester Museum & Science Center is responsible for notifying the Central Council of the Tlingit & Haida Indian Tribes that this notice has been published.

Dated: July 29, 2013.
Sherry Hutt,
Manager, National NAGPRA Program.

[FR Doc. 2013-19996 Filed 8-15-13; 8:45 am]

BILLING CODE 4312-50-P